DEPARTMENT OF COMMERCE

International Trade Administration

[Application No. 84-29A12]

Export Trade Certificate of Review

ACTION: Notice of Issuance of an amended Export Trade Certificate of Review to Northwest Fruit Exporters (“NFE”), Application No. 84-29A12.

SUMMARY: The Secretary of Commerce, through the Office of Trade and Economic Analysis (“OTEA”), issued an amended Export Trade Certificate of Review to NFE on October 9, 2018. A previous amended Export Trade Certificate of Review was issued to NFE on October 24, 2016, and a notice of its issuance was published in the Federal Register on November 7, 2016.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2018). OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Content

NFE's Export Trade Certificate of Review has been amended as follows:

(a) Added the following companies as new Members of the Certificate within the meaning of section 325.2(l) of the Regulations (15 CFR 325.2(l)):

(1) Pine Canyon Growers LLC, Orondo, WA

(2) WP Packing LLC, Wapato, WA

(b) Deleted the following companies as Members of the Certificate:

(1) Columbia Fruit Packers/Airport Division, Wenatchee, WA

(2) Phillippi Fruit Company, Inc., E. Wenatchee, WA

(3) Western Traders LLC, Wenatchee, WA

(c) Changed the name of the following Members of the Certificate:

(1) Columbia Marketing International Corp., Wenatchee, WA, is now named CMI Orchards LLC, Wenatchee, WA

(2) Pride Packing Company, Wapato, WA, is now named Pride Packing Company LLC, Wapato, WA

(d) Corrected the name of the following Members of the Certificate:

(1) Diamond Fruit Growers, Odell, OR, is corrected to Diamond Fruit Growers, Inc., Odell, OR

(2) HoneyBear Growers, Inc., Brewster, WA, is corrected to HoneyBear Growers LLC, Brewster, WA

(3) Honey Bear Tree Fruit Co., LLC, Wenatchee, WA, is corrected to Honey Bear Tree Fruit Co LLC, Wenatchee, WA

(4) L&M Companies, Union Gap, WA, is corrected to L & M Companies, Union Gap, WA

(5) Polehn Farm's Inc., The Dalles, OR, is corrected to Polehn Farms, Inc., The Dalles, OR

(6) Valicoff Fruit Co., Inc., Wapato, WA, is corrected to Valicoff Fruit Company Inc., Wapato, WA

NFE's Export Trade Certificate of Review Membership, as amended, is below:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Broetje Orchards LLC, Prescott, WA

12. C.M. Holtzinger Fruit Co., Inc., Yakima, WA

13. Chelan Fruit Cooperative, Chelan, WA

14. Chiawana, Inc. dba Columbia Reach Pack, Yakima, WA

15. CMI Orchards LLC, Wenatchee, WA

16. Columbia Fruit Packers, Inc., Wenatchee, WA

17. Columbia Valley Fruit, L.L.C., Yakima, WA

18. Congdon Packing Co. L.L.C., Yakima, WA

19. Conrad & Adams Fruit L.L.C., Grandview, WA

20. Cowiche Growers, Inc., Cowiche, WA

21. CPC International Apple Company, Tieton, WA

22. Crane & Crane, Inc., Brewster, WA

23. Custom Apple Packers, Inc., Quincy, and Wenatchee, WA

24. Diamond Fruit Growers, Inc., Odell, OR

25. Domex Superfresh Growers LLC, Yakima, WA

26. Douglas Fruit Company, Inc., Pasco, WA

27. Dovex Export Company, Wenatchee, WA

28. Duckwall Fruit, Odell, OR

29. E. Brown & Sons, Inc., Milton-Freewater, OR

30. Evans Fruit Co., Inc., Yakima, WA

31. E.W. Brandt & Sons, Inc., Parker, WA

32. Frosty Packing Co., LLC, Yakima, WA

33. G&G Orchards, Inc., Yakima, WA

34. Gilbert Orchards, Inc., Yakima, WA

35. Hansen Fruit & Cold Storage Co., Inc., Yakima, WA

36. Henggeler Packing Co., Inc., Fruitland, ID

37. Highland Fruit Growers, Inc., Yakima, WA

38. HoneyBear Growers LLC, Brewster, WA

39. Honey Bear Tree Fruit Co LLC, Wenatchee, WA

40. Hood River Cherry Company, Hood River, OR

41. Ice Lakes LLC, East Wenatchee, WA

42. JackAss Mt. Ranch, Pasco, WA

43. Jenks Bros Cold Storage & Packing, Royal City, WA

44. Kershaw Fruit & Cold Storage, Co., Yakima, WA

45. L & M Companies, Union Gap, WA

46. Larson Fruit Co., Selah, WA

47. Legacy Fruit Packers LLC, Wapato, WA

48. Manson Growers Cooperative, Manson, WA

49. Matson Fruit Company, Selah, WA

50. McDougall & Sons, Inc., Wenatchee, WA

51. Monson Fruit Co., Selah, WA

52. Morgan's of Washington dba Double Diamond Fruit, Quincy, WA

53. Naumes, Inc., Medford, OR

54. Northern Fruit Company, Inc., Wenatchee, WA

55. Olympic Fruit Co., Moxee, WA

56. Oneonta Trading Corp., Wenatchee, WA

57. Orchard View Farms, Inc., The Dalles, OR

58. Pacific Coast Cherry Packers, LLC, Yakima, WA

59. Peshastin Hi-Up Growers, Peshastin, WA

60. Piepel Premium Fruit Packing LLC, East Wenatchee, WA

61. Pine Canyon Growers LLC, Orondo, WA

62. Polehn Farms, Inc., The Dalles, OR

63. Price Cold Storage & Packing Co., Inc., Yakima, WA

64. Pride Packing Company LLC, Wapato, WA

65. Quincy Fresh Fruit Co., Quincy, WA

66. Rainier Fruit Company, Selah, WA

67. Roche Fruit, Ltd., Yakima, WA

68. Sage Fruit Company, L.L.C., Yakima, WA

69. Smith & Nelson, Inc., Tonasket, WA

70. Stadelman Fruit, L.L.C., Milton-Freewater, OR, and Zillah, WA

71. Stemilt Growers, LLC, Wenatchee, WA

72. Strand Apples, Inc., Cowiche, WA

73. Symms Fruit Ranch, Inc., Caldwell, ID

74. The Dalles Fruit Company, LLC, Dallesport, WA

75. Underwood Fruit & Warehouse Co., Bingen, WA

76. Valicoff Fruit Company Inc., Wapato, WA

77. Washington Cherry Growers, Peshastin, WA

78. Washington Fruit & Produce Co., Yakima, WA

79. Western Sweet Cherry Group, LLC, Yakima, WA

80. Whitby Farms, Inc. dba: Farm Boy Fruit Snacks LLC, Mesa, WA

81. WP Packing LLC, Wapato, WA

82. Yakima Fresh, Yakima, WA

83. Yakima Fruit & Cold Storage Co., Yakima, WA

84. Zirkle Fruit Company, Selah, WA

The effective date of the amendment is July 10, 2018, the date on which NFE's application to amend was deemed submitted.

Dated: October 17, 2018.
Joseph Flynn,
Director, Office of Trade and Economic Analysis, International Trade Administration, U.S. Department of Commerce.

[FR Doc. 2018-22974 Filed 10-19-18; 8:45 am]

BILLING CODE 3510-DR-P